DEPARTMENT OF TRANSPORTATION

Federal Aviation Administration

14 CFR Part 39

[Docket No. 2001-SW-70-AD; Amendment 39-12605; AD 2001-26-53]

RIN 2120-AA64

Airworthiness Directives; Eurocopter France Model AS350B, B1, B2, B3, BA, D, and AS355E Helicopters

AGENCY: Federal Aviation Administration, DOT.

ACTION: Final rule; request for comments.

SUMMARY: This document publishes in the Federal Register an amendment adopting Airworthiness Directive (AD) 2001-26-53, which was sent previously to all known U.S. owners and operators of Eurocopter France (ECF) Model AS350B, B1, B2, B3, BA, D, and AS355E helicopters by individual letters. This AD requires, before further flight, removing certain serial-numbered servocontrols. This AD is prompted by a report of manufacturing defects in a batch of main servocontrol rods. The actions specified by this AD are intended to prevent failure of a main servocontrol in the flight control system and subsequent loss of control of the helicopter.

DATES: Effective February 6, 2002 to all persons except those persons to whom it was made immediately effective by Emergency AD 2001-26-53, issued on December 21, 2001, which contained the requirements of this amendment.

Comments for inclusion in the Rules Docket must be received on or before March 25, 2002.

ADDRESSES: Submit comments in triplicate to the Federal Aviation Administration (FAA), Office of the Regional Counsel, Southwest Region, Attention: Rules Docket No. 2001-SW-70-AD, 2601 Meacham Blvd., Room 663, Fort Worth, Texas 76137. You may also send comments electronically to the Rules Docket at the following address: 9-asw-adcomments@faa.gov.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: On December 21, 2001, the FAA issued Emergency AD 2001-26-53, for ECF Model AS350B, B1, B2, B3, BA, D, and AS355E helicopters, which requires, before further flight, removing certain serial-numbered servocontrols. That action was prompted by a report of manufacturing defects in a batch of main servocontrol rods. This condition, if not corrected, could result in failure of a main servocontrol in the flight control system and subsequent loss of control of the helicopter.

The FAA has reviewed ECF Alert Telex Nos. 01.00.52 and 01.00.18, both dated November 15, 2001, which advise replacing certain servocontrols.

The Direction General De L'Aviation Civile (DGAC), the airworthiness authority for France, notified the FAA that an unsafe condition may exist on ECF Model AS350B, B1, B2, B3, BA, D, and AS355E helicopters. The DGAC advises of the discovery of a manufacturing defect on a batch of rods of the main servocontrol, the failure of which would lead to the loss of control of the helicopter. The DGAC classified the ECF Alert Telexes as mandatory and issued AD No. T2001-590-087(A) (for AS 350 helicopters) and No. T2001-591-065(A) (for AS 355 helicopters), both dated November 28, 2001, to ensure the continued airworthiness of these helicopters.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The unsafe condition is likely to exist or develop on other helicopters of the same type design. Therefore, the FAA issued Emergency AD 2001-26-53 to prevent failure of a main servocontrol, failure of the flight control system, and subsequent loss of control of the helicopter. The AD requires, before further flight, removing certain serial-numbered servocontrols. This AD does not apply to certain reconditioned servocontrols identified by the letter “V” engraved on the identification plate on the right-hand side of the part number. The short compliance time involved is required because the previously described critical unsafe condition can adversely affect the structural integrity and controllability of the helicopter. Therefore, removing certain serial-numbered servocontrols is required before further flight, and this AD must be issued immediately.

Since it was found that immediate corrective action was required, notice and opportunity for prior public comment thereon were impracticable and contrary to the public interest, and good cause existed to make the AD effective immediately by individual letters issued on December 21, 2001 to all known U.S. owners and operators of ECF Model AS350B, B1, B2, B3, BA, D, and AS355E helicopters. These conditions still exist, and the AD is hereby published in the Federal Register as an amendment to 14 CFR 39.13 to make it effective to all persons.

The FAA estimates that 540 helicopters of U.S. registry will be affected by this AD. It will take approximately 2 work hours per helicopter to remove a main servocontrol. The average labor rate is $60 per work hour. Required parts will cost approximately $9200 per main servocontrol. Based on these figures, the total cost impact of the AD on U.S. operators is estimated to be $5,032,800 ($9320 per helicopter), assuming that at least one main servocontrol is replaced on each helicopter.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-70-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-26-53 Eurocopter France: Amendment 39-12605. Docket No. 2001-SW-70-AD.

Applicability: Model AS350B, B1, B2, B3, BA, D, and AS355E helicopters, with TRW-SAMM main servocontrols, part number (P/N) SC 5083, serial number (S/N) from 1500 to 1515, inclusive, or P/N SC 5084, S/N from 722 to 726, inclusive, installed, except those reconditioned and identified by the letter “V” engraved on the identification plate on the right-hand side of the P/N, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight, unless accomplished previously.

To prevent failure of a main servocontrol, failure of the flight control system, and subsequent loss of control of the helicopter, accomplish the following:

(a) Remove each affected main servocontrol.

Note 2: Eurocopter France Alert Telex Nos. 01.00.52 and 01.00.18, both dated November 15, 2001, pertain to the subject of this AD.

(b) An alternative method of compliance or adjustment of the compliance time that provides an acceptable level of safety may be used if approved by the Manager, Regulations Group, FAA. Operators shall submit their requests through an FAA Principal Maintenance Inspector, who may concur or comment and then send it to the Manager, Regulations Group.

Note 3: Information concerning the existence of approved alternative methods of compliance with this AD, if any, may be obtained from the Regulations Group.

(c) Special flight permits will not be issued.

(d) This amendment becomes effective on February 6, 2002, to all persons except those persons to whom it was made immediately effective by Emergency AD 2001-26-53, issued December 21, 2001, which contained the requirements of this amendment.

Note 4: The subject of this AD is addressed in Direction Generale De L'Aviation Civile, France, AD Nos. T2001-590-087(A) and T2001-591-065(A), both dated November 28, 2001.

Issued in Fort Worth, Texas, on January 11, 2002.
David A. Downey,
Manager, Rotorcraft Directorate, Aircraft Certification Service.

[FR Doc. 02-1450 Filed 1-18-02; 8:45 am]

BILLING CODE 4910-13-P